NUCLEAR REGULATORY COMMISSION

[Docket No. 72-01; NRC-2021-0122]

GE-Hitachi Nuclear Energy Americas, LLC; Morris Operation Independent Spent Fuel Storage Installation

AGENCY: Nuclear Regulatory Commission.

ACTION: Subsequent license renewal; issuance.

SUMMARY: The U.S. Nuclear Regulatory Commission (NRC) has issued a subsequent renewed license to GE-Hitachi Nuclear Energy Americas, LLC (GEH) for Special Nuclear Materials (SNM) License No. SNM-2500 for the possession, transfer, and storage of radioactive material at the Morris Operation Independent Spent Fuel Storage Installation (ISFSI) (GEH-MO). GEH-MO is located in Grundy County, Illinois, near Morris, Illinois. The subsequent renewed license authorizes operation of GEH-MO in accordance with the provisions of the subsequent renewed license and its technical specifications. The subsequent renewed license expires on May 31, 2042.

DATES: The license referenced in this document is available as of November 22, 2022.

ADDRESSES: Please refer to Docket ID NRC-2021-0122 when contacting the NRC about the availability of information regarding this document. You may obtain publicly available information related to this document using any of the following methods:

• Federal Rulemaking Website: Go to https://www.regulations.gov and search for Docket ID NRC-2021-0122. Address questions about Docket IDs in Regulations.gov to Stacy Schumann; telephone: 301-415-0624; email: Stacy.Schumann@nrc.gov. For technical questions, contact the individual listed in the “For Further Information Contact” section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. For the convenience of the reader, instructions about obtaining materials referenced in this document are provided in the “Availability of Documents” section.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8:00 a.m. and 4:00 p.m. Eastern Time (ET), Monday through Friday, except Federal holidays.

FOR FURTHER INFORMATION CONTACT: Kristina L. Banovac, Office of Nuclear Material Safety and Safeguards, U.S. Nuclear Regulatory Commission, Washington, DC 20555-0001; telephone: 301-415-7116, email: Kristina.Banovac@nrc.gov.

SUPPLEMENTARY INFORMATION:

I. Discussion

Based upon the application dated June 30, 2020, as supplemented on February 26, 2021, March 19, 2021, March 24, 2021, January 27, 2022, and May 12, 2022, the NRC has issued a subsequent renewed license to the licensee for GEH-MO, located in in Grundy County, Illinois, near Morris, Illinois. The subsequent renewed license SNM-2500 authorizes and requires operation of GEH-MO in accordance with the provisions of the subsequent renewed license and its technical specifications. The subsequent renewed license will expire on May 31, 2042.

The licensee's application for a renewed license complies with the standards and requirements of the Atomic Energy Act of 1954, as amended (the Act), and the NRC's rules and regulations. The NRC has made appropriate findings as required by the Act and the NRC's regulations in chapter 1 of title 10 of the Code of Federal Regulations (10 CFR), and sets forth those findings in the subsequent renewed license. The agency afforded an opportunity for a hearing in the Notice of Opportunity for a Hearing published in the Federal Register on June 30, 2021 (86 FR 34790). The NRC received no request for a hearing or petition for leave to intervene following the notice.

The NRC staff prepared a safety evaluation report for the subsequent renewal of the ISFSI license and concluded, based on that evaluation, the ISFSI will continue to meet the regulations in 10 CFR part 72. The NRC staff also prepared an environmental assessment and finding of no significant impact for the subsequent renewal of this license, which were published in the Federal Register on November 17, 2022 (87 FR 69053). The NRC staff's consideration of the impacts of continued storage of spent nuclear fuel (as documented in NUREG-2157, “Generic Environmental Impact Statement for Continued Storage of Spent Fuel”) was included in the environmental assessment. The NRC staff concluded that subsequent renewal of this ISFSI license will not have a significant impact on the quality of the human environment.

II. Availability of Documents

The documents identified in the following table are available to interested persons through one or more of the following methods, as indicated.

Document description | ADAMS Accession No.
Licensee's Renewal Application, dated June 30, 2020 | ML20182A699 (Package).
Response to Request for Supplemental Information, dated February 26, 2021 | ML21057A119 (Package).
Response to Request for Clarification, dated March 19, 2021 | ML21085A859.
Submittal of Updated Consolidated Safety Analysis Report, dated March 24, 2021 | ML21083A200 (Package).
Response to Request for Additional Information, dated January 27, 2022 | ML22027A516.
Response to Request for Clarification, dated May 12, 2022 | ML22132A072.
Special Nuclear Materials License No. SNM-2500 | ML22242A017 and ML22242A018.
SNM-2500 Technical Specifications | ML22242A034
NRC Safety Evaluation Report | ML22234A257.
NRC Environmental Assessment | ML22270A269.
NUREG-2157, “Generic Environmental Impact Statement for Continued Storage of Spent Fuel” Vol. 1 | ML14196A105.
NUREG-2157, “Generic Environmental Impact Statement for Continued Storage of Spent Fuel” Vol. 2 | ML14196A107.

Dated: November 28, 2022.
For the Nuclear Regulatory Commission.
Yoira K. Diaz-Sanabria,
Chief, Storage and Transportation Licensing Branch, Division of Fuel Management, Office of Nuclear Material Safety and Safeguards.

[FR Doc. 2022-26230 Filed 12-1-22; 8:45 am]

BILLING CODE 7590-01-P